DEPARTMENT OF THE INTERIOR

Bureau of Land Management

[LLCO-923000.L1440000.ET0000; COC 028647]

Public Land Order No. 7871; Partial Withdrawal Revocation, Power Site Classification No. 361 and Modification of Public Land Order No. 7448; Colorado

AGENCY: Bureau of Land Management, Interior.

ACTION: Public Land Order.

SUMMARY: This Order partially revokes a withdrawal created by Secretarial Order dated October 24, 1944, which established Power Site Classification (PSC) No. 361 insofar as it affects 41.42 acres, and modifies Public Land Order No. 7448 by releasing from the effect of the provisions of Section 24 of the Federal Power Act, approximately 81.88 (formerly 80) acres of National Forest System (NFS) lands. This Order opens the lands to such uses as may be made of NFS lands subject to valid existing rights, the provisions of existing withdrawals, other segregations of record, and the requirements of applicable law.

DATES: This Public Land Order (PLO) is effective on August 1, 2018.

FOR FURTHER INFORMATION CONTACT: John D. Beck, Bureau of Land Management, Colorado State Office, (303) 239-3882; or write: Branch of Lands and Realty, BLM Colorado State Office, 2850 Youngfield Street, Lakewood, Colorado 80215-7093. Persons who use a telecommunications device for the deaf (TDD) may call the Federal Relay Service (FRS) at 1-800-877-8339 to contact the above individual. The FRS is available 24 hours a day, 7 days a week to leave a message or question for the above individual. You will receive a reply during normal business hours.

SUPPLEMENTARY INFORMATION: The United States Forest Service (USFS) requested a partial revocation for PSC No. 361 created by a Secretarial Order dated October 24, 1944, which classified NFS lands for potential waterpower site development. The USFS also requests PLO No. 7448 be modified by removing the Federal Power Act Section 24 reservation provision noted in paragraph 1 of the Order. The Bureau of Land Management, in consultation with the Federal Energy Regulatory Commission, determined that the interests of the United States will not be injured by conveyance of the land out of Federal ownership. This Order opens some lands within PSC No. 361 to such uses as may be made of NFS lands.

Order

By virtue of the authority vested in the Secretary of the Interior by Section 204 of the Federal Land Policy and Management Act of 1976, 43 U.S.C. 1714, and pursuant to the Federal Energy Regulatory Commission (FERC) Determination No. DV17-3-000, it is ordered as follows:

1. The withdrawal created by Secretarial Order dated October 24, 1944, which established PSC No. 361, is hereby revoked insofar as it affects the following described lands:

6th Principal Meridian, Colorado

T. 6 N, R. 71 W,

Sec. 31, lot 11, (formerly being the NE¼SE¼);

Sec. 32, lots 1, 2, and 3, (formerly being the NW¼SW¼).

The area described aggregates 41.42 acres in Larimer County.

2. PLO No. 7448 (65 FR 35391) is modified by removing from paragraph 1 of the Order the limitation “subject to provisions of Section 24 of the Federal Power Act as specified by the FERC determination DV17-3-000,” affecting the following described lands:

6th Principal Meridian, Colorado

T. 6 N, R. 71 W,

Sec. 31, lots 5, 6, 9, and 10, (formerly being the SW¼NE¼, SE¼NW¼).

The area described contains 81.88 (formerly 80) acres in Larimer County.

3. At 9 a.m. on August 1, 2018 the lands described in Paragraph 1 and 2 are opened to such forms of disposition as may be made of NFS land, subject to valid existing rights, the provisions of existing withdrawals, other segregations of record, and the requirements of applicable law.

Joseph R. Balash,
Assistant Secretary—Land and Minerals Management.

[FR Doc. 2018-16451 Filed 7-31-18; 8:45 am]

BILLING CODE 4310-JB-P